DEPARTMENT OF THE INTERIOR

Bureau of Land Management

[IDI 35965]

Public Land Order No. 7809; Withdrawal of National Forest System Land for the Settler's Grove of Ancient Cedars Botanical and Recreation Area; ID

AGENCY: Bureau of Land Management, Interior.

ACTION: Public Land Order.

SUMMARY: This order withdraws 183.46 acres of National Forest System land from location and entry under the United States mining laws for a period of 20 years to protect one of the few remaining stands of old-growth western red cedar trees in the Settler's Grove of Ancient Cedars Botanical and Recreation Area within the Idaho Panhandle National Forest.

DATES: Effective Date: February 13, 2013.

FOR FURTHER INFORMATION CONTACT: Scott Bixler, U.S. Forest Service, Region 1, P.O. Box 7669, Missoula, Montana 59807 406-329-3655 or Laura Underhill, Bureau of Land Management, Idaho State Office, 1387 S. Vinnell Way, Boise, Idaho 83709, 208-373-3866. Persons who use a telecommunications device for the deaf (TDD) may call the Federal Information Relay Service (FIRS) at 1-800-877-8339 to contact either of the above individuals. The FIRS is available 24 hours a day, 7-days a week, to leave a message or question with either of the above individuals. You will receive a reply during normal business hours.

SUPPLEMENTARY INFORMATION: This order replaces Public Land Order 6658 (52 FR 36577 (1987)) which expired on September 9, 2007 and withdrew the same land to the United States Forest Service for protection of the Settler's Grove of Ancient Cedars Botanical and Recreation Area.

Order

By virtue of the authority vested in the Secretary of the Interior by Section 204 of the Federal Land Policy and Management Act of 1976, 43 U.S.C 1714, it is ordered as follows:

1. Subject to valid existing rights, the following described National Forest System land is hereby withdrawn from location and entry under the United States mining laws, but not from leasing under the mineral leasing laws, for the protection of the Settler's Grove of Ancient Cedars Botanical and Recreation Area:

Idaho Panhandle National Forest

Boise Meridian

T. 50 N., R. 5 E.,

Sec. 4, NW¼NE¼ of lot 1, NW¼ of lot 1, SW¼SW¼ of lot 1, N½SW¼ of lot 1, SE¼NE¼ of lot 2, SE¼ of lot 2, NE¼SW¼NE¼, NW¼SE¼SW¼NE¼, E½NW¼SW¼NE¼, SW¼NW¼SW¼NE¼, SW¼SW¼NE¼, E½SE¼SE¼NW¼, SW¼SE¼SE¼NW¼, SE¼SW¼SE¼NW¼, NW¼NE¼SW¼, NE¼NE¼SW¼, S½NE¼NW¼SW¼, SE¼NW¼NW¼SW¼, NE¼SW¼NW¼SW¼, N½SE¼NW¼SW¼, and W½NW¼NW¼SE¼.

T. 51 N., R. 5 E.,

Sec. 33, S½SE¼NE¼SE¼, SE¼SW¼NE¼SE¼, NE¼SE¼SE¼, E½NW¼SE¼SE¼, W½SE¼SE¼SE¼, SW¼SE¼SE¼, and NE¼SE¼SE¼SE¼;

Sec. 34, SW¼NW¼SW¼, NW¼SW¼SW¼, S½NW¼NW¼SW¼.

The area described contains 183.46 acres in Shoshone County.

2. The withdrawal made by this order does not alter the applicability of the general land laws governing the use of National Forest System land under lease, license, or permit, or governing the disposal of their mineral or vegetative resources other than under the mining laws.

3. This withdrawal will expire 20 years from the effective date of this order, unless, as a result of a review conducted before the expiration date pursuant to Section 204(f) of the Federal Land Policy and Management Act of 1976, 43 U.S.C. 1714(f) the Secretary determines that the withdrawal shall be extended.

Dated: February 13, 2013.
Rhea S. Suh,
Assistant Secretary—Policy, Management and Budget.

[FR Doc. 2013-03987 Filed 2-20-13; 8:45 am]

BILLING CODE 3410-11-P